EXPORT-IMPORT BANK OF THE UNITED STATES

Sunshine Act Meeting

Notice of an Open Meeting of the Board of Directors of the Export-Import Bank of the United States

TIME AND DATE: Tuesday, September 8, 2020 at 10:00 a.m.

PLACE: The meeting will be held via Teleconference.

STATUS: The meeting will be open to public observation by teleconference.

MATTER TO BE CONSIDERED:

Item Number 1—Small Business Update;

Item Number 2a—Renewal of the Guarantee and Credit Agreement between EXIM and PEFCO;

Item Number 2b—Amendment to the Standard Operating Procedures between EXIM and PEFCO;

Item Number 2c—PEFCO Secured Note Authorization for FY2021; and

Item Number 2d—Funder Guarantee for Supply Chain Finance Guarantee Program.

CONTACT PERSON FOR MORE INFORMATION: Members of the public who wish to attend the meeting should contact Joyce Stone at joyce.stone@exim.gov or 202-257-4086 by close of business Thursday, September 3, 2020. Individuals will be given call-in information.

Joyce B. Stone,
Assistant Corporate Secretary.

[FR Doc. 2020-19058 Filed 8-26-20; 11:15 am]

BILLING CODE 6690-01-P